ENVIRONMENTAL PROTECTION AGENCY

[OPPTS-00300; FRL-6747-6]

Proposed National Action Plan for Hexachlorobenzene; Notice of Availability and Solication of Public Comment

AGENCY: Environmental Protection Agency (EPA).

ACTION: Notice of Availability.

SUMMARY: EPA has developed a draft National Action Plan to promote further voluntary reductions of releases and exposure to Hexachlorobenzene (HCB). This Notice announces the availability of the draft HCB National Action Plan for public review and comment. Hexachlorobenzene is currently formed as an inadvertent by-product at trace levels in the production of chlorinated solvents, pesticides, and in other chlorinated processes. This chemical is a persistent, bioaccumulative and toxic halogenated compound that persists in the environment and bioaccumulates in animal tissue. It is considered a probable human carcinogen and is toxic by all routes of exposure. The general population appears to be exposed to very low concentrations of HCB, primarily through ingestion of meat, dairy products, poultry and fish. The strategic approach of the Agency, therefore, will involve voluntary initiatives to reduce releases and minimize media transfers, collect information to verify sources and sinks, and increase involvement with and assistance to international groups and other countries to reduce atmospheric deposition in the United States. This plan was developed pursuant to the Agency's Multimedia Strategy for Priority PBT Pollutants.

DATES: Comments, identified by docket control number OPPTS-00300, must be received on or before January 8, 2001.

ADDRESSES: Comments may be submitted by mail, electronically, or in person. Please follow the detailed instructions for each method as provided in Unit I. of the SUPPLEMENTARY INFORMATION. To ensure proper receipt by EPA, it is imperative that you identify docket control number OPPTS-00300 in the subject line on the first page of your response.

FOR FURTHER INFORMATION CONTACT: For general information contact: Barbara Cunningham, Director, Office of Program Management and Evaluation, Office of Pollution Prevention and Toxics (7401), Environmental Protection Agency, 1200 Pennsylvania Ave., NW., Washington, DC 20460; telephone number: (202) 554-1404; e-mail address: TSCA-Hotline@epa.gov.

For technical information contact: Paul Matthai, Pollution Prevention Division, Mail Code 7409, Office of Pollution Prevention and Toxics, Environmental Protection Agency, 1200 Pennsylvania Ave., NW., Washington, DC 20460; telephone number: (202) 260-3385; e-mail address: matthai.paul@epa.gov.

SUPPLEMENTARY INFORMATION:

I. General Information

A. Does this Action Apply to Me?

This action is directed to the public in general. This action may, however, be of interest to persons who are involved in the production of chlorinated solvents, pesticides and in other chlorinated processes which could form HCB as an inadvertent by product at trace levels. This Action Plan may also be of interest to persons involved in the use of hexachloroethane in secondary aluminum operations which could release HCB. Since other entities may also be interested, the Agency has not attempted to describe all the specific entities that may be affected by this action. If you have any questions regarding the applicability of this action to a particular entity, consult the technical person listed in the FOR FURTHER INFORMATION CONTACT.

B. How Can I Get Additional Information, Including Copies of this Document or Other Related Documents?

1. Electronically. You may obtain electronic copies of this document, and certain other related documents that might be available electronically, from the EPA Internet Home Page at http://www.epa.gov/pbt. To access this document, on the PBT Home Page, select “What's new.” You can also go directly to the Federal Register listings at http://www.epa.gov/fedrgstr/.

2. In person. The Agency has established an official record for this action under docket control number OPPTS-00300. The official record consists of the documents specifically referenced in this action, any public comments received during an applicable comment period, and other information related to this action, including any information claimed as confidential business information (CBI). This official record includes the documents that are physically located in the docket, as well as the documents that are referenced in those documents. The public version of the official record does not include any information claimed as CBI. The public version of the official record, which includes printed, paper versions of any electronic comments submitted during an applicable comment period, is available for inspection in the TSCA Nonconfidential Information Center, North East Mall Rm. B-607, Waterside Mall, 1200 Pennsylvania Ave., NW., Washington, DC. The Center is open from noon to 4 p.m., Monday through Friday, excluding legal holidays. The telephone number for the Center is (202) 260-7099.

C. How and to Whom Do I Submit Comments?

You may submit comments through the mail, in person, or electronically. To ensure proper receipt by EPA, it is imperative that you identify docket control number OPPTS-00300 in the subject line on the first page of your response.

1. By mail. Submit your comments to: Document Control Office (7407), Office of Pollution Prevention and Toxics (OPPT), Environmental Protection Agency, 1200 Pennsylvania Ave., NW., Washington, DC 20460.

2. In person or by courier. Deliver your comments to: OPPT Document Control Office (DCO) in East Tower Rm. G-099, Waterside Mall, 401 M St., SW., Washington, DC. The DCO is open from 8 a.m. to 4 p.m., Monday through Friday, excluding legal holidays. The telephone number for the DCO is (202) 260-7093.

3. Electronically. You may submit your comments electronically by e-mail to: oppt.ncic@epa.gov, or mail your computer disk to the address identified in this unit. Do not submit any information electronically that you consider to be CBI. Electronic comments must be submitted as an ASCII file avoiding the use of special characters and any form of encryption. Comments and data will also be accepted on standard disks in WordPerfect 6.1/8.0 or ASCII file format. All comments in electronic form must be identified by docket control number OPPTS-00300. Electronic comments may also be filed online at many Federal Depository Libraries.

D. How Should I Handle CBI Information that I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the technical person identified under FOR FURTHER INFORMATION CONTACT.

E. What Should I Consider as I Prepare My Comments for EPA?

We invite you to provide your views on the various options we propose, new approaches we have not considered, the potential impacts of the various options (including possible unintended consequences), and any data or information that you would like the Agency to consider during the development of the final action. You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the rule or collection activity.

7. Make sure to submit your comments by the deadline in this notice.

8. To ensure proper receipt by EPA, be sure to identify the docket control number assigned to this action in the subject line on the first page of your response. You may also provide the name, date, and Federal Register citation.

II. What Action is the Agency Taking?

On November 16, 1998, EPA released its draft Agency-wide Multimedia Strategy for Priority Persistent, Bioaccumulative, and Toxic (PBT) Pollutants (PBT Strategy). The goal of the PBT Strategy is to identify and reduce risks to human health and the environment from current and future exposures to priority PBT pollutants. This document serves as the Draft National Action Plan for Hexachlorobenzene (HCB), one of the 12 Level 1 priority PBT pollutants identified for the initial focus of action in the PBT Strategy.

Hexachlorobenzene (CAS number 118-74-1) is a white, crystalline solid. It has been synthesized and used from the 1940s to the late 1970s as a fungicide on grain seeds such as wheat. HCB was also used in the past as a solvent and as an intermediate and/or additive in various manufacturing processes, including the production of PVC, pyrotechnics and ammunition, dyes, and pentachlorophenol. Although HCB is no longer used directly as a pesticide, it is currently formed as an inadvertent by-product at trace levels in the production of chemical solvents, chlorine-containing compounds, and several currently used pesticides.

HCB is a highly persistent environmental toxin that degrades slowly in air and remains in the atmosphere through long range transport. It bioaccumulates in the fatty tissues and its presence in fish, plants, and wild game species can be a source of ingestion exposure for humans. HCB is considered a probable human carcinogen and is toxic by all routes of exposure. Short-term high exposures can lead to kidney and liver damage, central nervous system excitation and seizures, circulatory collapse, and respiratory depression. Based on studies conducted on animals, long-term low exposures may damage a developing fetus, cause cancer, lead to kidney and liver damage, and cause fatigue and skin irritation.

The general population appears to be exposed to very low concentrations of HCB. Ingestion of HCB-contaminated fish and other wildlife is potentially the most significant source of exposure. Additional, although significantly less, exposure may occur through inhalation or dermal contact. However, certain subpopulations may be exposed to higher levels of HCB than the general population. These include: workers occupationally exposed to HCB; individuals living near facilities where HCB is produced as a by-product; individuals living near current or former hazardous waste sites where HCB is present; recreational and subsistence fishermen who consume higher amounts of locally caught fish and bivalves (mussels, oysters, clams) from contaminated waters, and native populations (including Native American populations such as the Inuits of Alaska) who consume caribou and other game species. Finally, nursing infants in these areas may also be particularly susceptible to effects due to the singular nature of their diet.

The goal of the Action Plan is to identify and further reduce risks to human health and the environment from existing and future exposure to HCB. However, there are information gaps related to the magnitude of known and suspected sources of HCB, the extent of pollution resulting from long-range transport, and the content of HCB in sinks such as sediments and sewage sludge that may contribute to environmental cycling within Unites States boundaries. Therefore, the strategic approach of the Agency will involve voluntary initiatives to reduce releases and minimize media transfers, collect information to verify sources and sinks, and increase involvement with and assistance to international groups and other countries to reduce atmospheric deposition in the United States.

EPA considers stakeholder involvement essential to reaching the goals of the PBT Strategy. Therefore, the Agency is seeking stakeholder input and invites comment on this draft National Action Plan on the following three areas related to HCB.

1. The identification and implementation of voluntary initiatives and outreach opportunities to reduce releases of and exposure to HCB, while minimizing controlled and uncontrolled (e.g., volatilization from water to air, deposition onto soil or plants) multi-media transfers.

2. Continued information collection and integration of data across media regarding sources, sinks, releases, environmental trends, and human food and tissue levels for HCB. Data collection will occur through Binational Toxics Strategy (BNS) efforts, Maximum Achievable Control Technology (MACT) standard development, various EPA permitting and reporting processes, and industry involvement.

3. Collaborate (or partner) with international organizations and foreign governments to assess the significance of long-range transport from other countries and to foster the proliferation of pollution prevention or control technology measures that will reduce inputs of HCB to the environment.

List of Subjects

Environmental protection, PBT, National Action Plan, and HCB.

Dated: November 27, 2000.
Susan H. Wayland,
Assistant Administrator for Office of Prevention, Pesticides, and Toxic Substances.

[FR Doc. 00-31336 Filed 12-7-00; 8:45 am]

BILLING CODE 6560-50-S